FEDERAL COMMUNICATIONS COMMISSION

47 CFR Parts 0, 1, 5, 73, and 74

[MB Docket No. 18-121; FCC 18-61]

Amendment of Parts 0, 1, 5, 73, and 74 of the Commission's Rules Regarding Posting of Station Licenses and Related Information

AGENCY: Federal Communications Commission.

ACTION: Proposed rule.

SUMMARY: In this document, the Federal Communications Commission (FCC or Commission) seeks comment on whether to streamline or eliminate provisions of our regulation which require the posting and maintenance of broadcast licenses and related information in specific locations. The Commission tentatively concludes that these licenses posting rules should be eliminated because they are redundant and obsolete now that licensing information is readily accessible online through the Commission's databases. Through this action we advance our efforts to modernize our media regulations and remove unnecessary requirements that can impede competition and innovation in the media marketplace

DATES: Comments are due on or before August 1, 2018; reply comments are due on or before August 16, 2018.

ADDRESSES: You may submit comments, identified by MB Docket No. 18-121, by any of the following methods:

• Federal Communications Commission's Website: http://www.fcc.gov/cgb/ecfs/. Follow the instructions for submitting comments.

• Mail: Filings can be sent by hand or messenger delivery, by commercial overnight courier, or by first-class or overnight U.S. Postal Service mail (although the Commission continues to experience delays in receiving U.S. Postal Service mail). All filings must be addressed to the Commission's • Secretary, Office of the Secretary, Federal Communications Commission.

• People With Disabilities: Contact the FCC to request reasonable accommodations (accessible format documents, sign language interpreters, CART, etc.) by email: FCC504@fcc.gov or phone: (202) 418-0530 or TTY: (202) 418-0432. For detailed instructions for submitting comments and additional information on the rulemaking process, see the SUPPLEMENTARY INFORMATION section of this document.

FOR FURTHER INFORMATION CONTACT: For additional information, contact Jonathan Mark, Jonathan.Mark@fcc.gov, of the Media Bureau, Policy Division, (202) 418-3634. Direct press inquiries to Janice Wise at (202) 418-8165.

SUPPLEMENTARY INFORMATION: This is a summary of the Commission's Notice of Proposed Rulemaking (NPRM), FCC 18-121, adopted and released on May 10, 2018. The full text of this document is available electronically via the FCC's Electronic Document Management System (EDOCS) website at http://fjallfoss.fcc.gov/edocs_public/ or via the FCC's Electronic Comment Filing System (ECFS) website at http://fjallfoss.fcc.gov/ecfs2/. (Documents will be available electronically in ASCII, Microsoft Word, and/or Adobe Acrobat.) This document is also available for public inspection and copying during regular business hours in the FCC Reference Information Center, which is located in Room CY-A257 at FCC Headquarters, 445 12th Street SW, Washington, DC 20554. The Reference Information Center is open to the public Monday through Thursday from 8:00 a.m. to 4:30 p.m. and Friday from 8:00 a.m. to 11:30 a.m. The complete text may be purchased from the Commission's copy contractor, 445 12th Street SW, Room CY-B402, Washington, DC 20554. Alternative formats are available for people with disabilities (Braille, large print, electronic files, audio format), by sending an email to fcc504@fcc.gov or calling the Commission's Consumer and Governmental Affairs Bureau at (202) 418-0530 (voice), (202) 418-0432 (TTY).

Synopsis

I. Notice of Proposed Rulemaking

1. In this Notice of Proposed Rulemaking (NPRM), we seek comment on whether to streamline or eliminate provisions in Parts 0, 1, 5, 73 and 74 of our rules which require the posting and maintenance of broadcast licenses and related information in specific locations. In conjunction with the Commission's Modernization of Media Regulation Initiative, several parties have urged us to eliminate license posting rules because they are redundant and obsolete now that licensing information is readily accessible online through the Commission's databases. Through this NPRM, we advance our efforts to modernize our media regulations and remove unnecessary requirements that can impede competition and innovation in the media marketplace.

2. Several Commission rules impose certain posting and record maintenance obligations on broadcast stations. For example, Section 73.1230, which applies to all broadcast stations, provides:

(a) The station license and any other instrument of station authorization shall be posted in a conspicuous place and in such a manner that all terms are visible at the place the licensee considers to be the principal control point of the transmitter.

(b) Posting of the station license and any other instruments of authorization shall be done by affixing them to the wall at the posting location, or by enclosing them in a binder or folder which is retained at the posting location so that the documents will be readily available and easily accessible.

Likewise, Section 73.801 applies Section 73.1230 to low power FM stations. Sections 74.564 and 74.664, applicable to aural and television broadcast auxiliary stations,¹ respectively, require stations to post licenses and any other authorizations “in the room in which the transmitter is located” and prescribes the manner of such posting. Similarly, under Sections 74.432(j) and 74.832(j), remote pickup station and low power auxiliary station licensees are required to post licenses either at the transmitter or station control point. Further, under Section 5.203(b), broadcast licensees must post experimental authorizations along with their station license, and Section 1.62(a)(2) requires all Commission licensees, including broadcast entities, to post information pertaining to license renewal applications as well as the license itself.

¹ Broadcast auxiliary stations are radio frequency systems used by broadcast stations and broadcast or cable network entities to relay broadcast aural or television signals from the studio to the transmitter, or between two points, such as a main studio and an auxiliary studio.

3. In addition, several Commission rules require the maintenance of licensing documentation and the display of specified station contact information. For example, Section 74.1265, which applies to FM translator and FM booster stations, provides:

(a) The station license and any other instrument of authorization or individual order concerning the construction of the station or the manner of operation shall be kept in the station record file maintained by the licensee so as to be available for inspection upon request to any authorized representative of the Commission.

(b) The call sign of the translator or booster together with the name, address, and telephone number of the licensee or local representative of the licensee if the licensee does not reside in the community served by the translator or booster, and the name and address of a person and place where station records are maintained, shall be displayed at the translator or booster site on the structure supporting the transmitting antenna, so as to be visible to a person standing on the ground at the transmitter site. The display shall be prepared so as to withstand normal weathering for a reasonable period of time and shall be maintained in a legible condition by the licensee.

Similarly, Section 74.765 requires LPTV, TV translator, and TV booster stations to maintain their station license and other authorizations in their station record file and to physically display their call sign together with the name, address, and telephone number of the licensee or local representative of the licensee and the name and address of a person and place where station records are maintained at the antenna site.²

² We note that Section 78.59 also contains license posting requirements for cable television relay stations (CARS) licensees. Given that not all CARS authorizations are housed online and no commenter in the media modernization docket has asked the Commission to eliminate these requirements, we decline to seek comment on eliminating the posting requirements in Section 78.59 in this proceeding. In addition, we note that the Commission applies similar requirements to other, non-broadcast licensees, e.g., 47 CFR 13.19 (commercial radio operators), 25.115(c)(2)(vi)(E) (satellite communications); 80.405(c), 80.407, 80.411(b) (maritime services); 87.103 (aviation services); 90.437 (private land mobile radio services); 97.213 (amateur radio service); 101.215 (fixed microwave services). We decline to address such rules in this proceeding, as they are beyond the scope of the Modernization of Media Regulation Initiative.

4. The Commission originally adopted broadcast license posting rules in 1930 and over the years it expanded these rules to apply to new services that were deployed by broadcasters. In adopting its first broadcast license posting rule, the Commission's predecessor, the Federal Radio Commission, provided no explicit rationale for the posting requirements. Subsequent Commission decisions adopting or revising license posting or record maintenance requirements similarly provided no detailed explanation for such rules. Based on the text of the current rules, these requirements appear intended to ensure that information regarding station authorizations, ownership, and contact information is readily available and easily accessible to the Commission and public.

5. We seek comment on whether to eliminate or modify the license posting and record maintenance rules applicable to broadcasters. In particular, we seek comment on whether these rules continue to serve the public interest given that most of the information required to be displayed or maintained under these rules is now available through electronic means. We note that all of the information regarding broadcast station licenses and other broadcast authorizations that is required to be physically posted pursuant to Sections 1.62(a)(2),³ 5.203(b), 73.1230, 73.801, 74.432(j), 74.564, 74.664, 74.733, 74.787, and 74.832(j) is readily available online through Commission databases ⁴ and, for full power and Class A stations, the Online Public Inspection File.⁵ Several commenters contend that the availability of broadcast licensing information through other sources renders such posting requirements unnecessary.⁶

³ With respect to Section 1.62(a)(2), which applies to all Commission licensees, we limit our inquiry to whether broadcast stations should be excluded from obligations to post information pertaining to license renewal applications along with the station license. See infra Appendix A.

⁴ This information about all broadcasters is publicly available through the Commission's Consolidated Database System (CDBS), http://licensing.fcc.gov/prod/cdbs/pubacc/prod/app_sear.htm. Similarly, the public may access copies of a station's license, which includes the station call sign and the name, address, and telephone number of the station licensee and point of contact, through the Commission's Licensing Management System (LMS), https://enterpriseefiling.fcc.gov/dataentry/login.html and/or Universal Licensing System (ULS), http://wireless.fcc.gov/uls/index.htm?job=home. However, information regarding the custodian of station records is not available online. See infra para. 10.

⁵ Online Public Inspection File, available at https://publicfiles.fcc.gov/. See 47 CFR 73.3526 (governing public file obligations of full power commercial broadcast stations); § 73.3527 (governing public file obligations of noncommercial educational broadcast stations.)

⁶ The Commission's broadcast licensing databases can be searched in multiple ways, including by call sign, licensee name, facility identification number, channel number/frequency, community of license, and in the case of the online public inspection file, by city or municipality.

6. Commenters similarly note that information required to be displayed or otherwise maintained under Sections 74.1265 and 74.765 regarding LPTV, TV and FM translator stations, and TV and FM booster stations is available to the public electronically through the Commission's CDBS, LMS and/or ULS databases.⁷ The information specified in Sections 74.1265 and 74.765 that also is available through these databases includes station licenses and authorizations, orders and dispositions regarding station construction or facilities operation, the station call sign, and the name, address, and telephone number of the station's licensee and contact representative.

⁷ We note that LPTV and LPFM stations, TV and FM translator stations, and TV and FM booster stations are not subject to the Online Public Inspection File rules and, with the exception of LPTV and LPFM stations, these categories of stations historically have not been required to make records available for public inspection.

7. Considering the ready availability of pertinent station information through the changes in technology noted in the record, we seek comment on whether the public interest would be served by eliminating or modifying our broadcast license posting and record maintenance provisions. Given that the Commission first adopted broadcast license posting requirements nearly 90 years ago and that most of the information required to be displayed or maintained under these rules is available through other means, we seek comment on whether these rules remain necessary or relevant today. Is there any valid justification for continuing to require broadcasters to post or maintain a physical copy of their licenses and other authorizations? If so, do such justifications outweigh the costs to broadcast stations of complying with these requirements?

8. In addition, we seek comment on the continuing practicality of requirements to physically display licensing documents at the site of broadcast facilities. With respect to Sections 73.1230, 73.801, 74.564, and 74.664, commenters assert that the obligation to post licenses and other authorizations at the “principal control point of the transmitter” is outdated. These parties argue that, because most stations have transitioned to dial-up or IP systems that enable them to manage transmitters remotely from a smartphone or personal computer, the “principal control point” has been rendered obsolete. Have these technological changes made such requirements impractical? Similarly, does it remain necessary, as currently required under Sections 74.1265(b) and 74.765(b) only for booster, translator, and LPTV stations, to require that certain information be displayed at the transmitter site “on the structure supporting the transmitting antenna, so as to be visible to a person standing on the ground”? To what extent are the transmitter sites of LPTV, booster, and translator stations in locations that cannot be viewed or accessed by members of the public, and are these requirements useful even if the sites are not accessible to the public? ⁸

⁸ In 1995, the Commission considered whether to extend these requirements to additional services beyond LPTV, translator, and booster stations or otherwise modify the existing requirements. The Commission suggested that transmitter site posting requirements may not be practicable at transmitter sites bounded by protective fencing, but “where transmitters are located in places somewhat separated from stations of other radio services [such requirements] may assist in the identification of a transmission facility.” Ultimately, the Commission declined to modify the rules, citing “the absence of definitive information” on the need for such modifications.

9. We seek comment on whether these provisions serve any public safety objectives that would be undermined by eliminating them. For example, if broadcast stations no longer were required to physically maintain licenses or related information at the transmitter or antenna site, would sufficient information be readily available to facilitate on-scene assessment during a disaster in cases where communications systems were affected and online systems could not be accessed? ⁹ In such instances, can we presume that, if necessary, Commission staff and station employees would be able to access the authorized technical parameters of operation available in Commission databases through other means? In addition, we seek comment on whether our rules requiring the posting of information “on the structure supporting the transmitting antenna” serve any purpose with respect to antenna structure lighting, such as allowing first responders or others to determine quickly whom to contact about a lighting problem. In such situations, can information be readily accessed through other means?

⁹ Under the current rules, only LPTV, booster, and translator stations must display information on the transmitter structure (47 CFR 74.765(b), 74.1265(b)), whereas aural and TV auxiliary broadcast stations must post the required information “in the room in which the transmitter is located” (Id. §§ 74.564(a), 74.664(a)), and other licensees (i.e., full power and Class A TV, AM, FM, and LPFM licensees) must post information at the “principal control point of the transmitter” (Id. §§ 73.801, 73.1230(a)), which may be several miles away from the transmitter.

10. In addition, we seek comment on the continued need under Sections 74.1265(b) and 74.765(b) for licensees of LPTV, translator, and booster stations to display “the name and address of a person and place where . . . station records are maintained.” This “custodian of records” information is the only information broadcasters must display that is not currently available online through a Commission-hosted database. We note that the name, address, and telephone number of the station's licensee and contact representative is readily available online through our databases.¹⁰ Given the accessibility of a station contact representative, is there any need to separately require such stations to provide and make publicly available contact information for a custodian of records? If it continues to be necessary for Commission staff to be apprised of the location of station records and their custodian, how should this information be provided if we eliminate Sections 74.1265 and 74.765? For example, should we consider revising one of the forms that these stations currently must file with the Commission, such as the license renewal application form (Form 303-S), to solicit this information? Alternatively, should we retain the portion of Sections 74.1265 and 74.765 requiring this information to be maintained at the antenna site? Or, are these sites now in locations that cannot be viewed or accessed by members of the public such that this requirement is no longer justified?

¹⁰ The public may view a station's license, which includes contact information for the station licensee and point of contact, by entering search criteria for the station of interest (e.g., station call sign, facility identifier, community of license, state) into CDBS, LMS, and/or ULS. This contact information also is provided on other broadcast applications that are filed in, and publicly available through, the Commission's online databases.

11. Finally, for reasons similar to those noted above, we seek comment on whether to eliminate provisions in our rules that cross-reference the above referenced requirements, and whether to modify Section 1.62(a)(2) to exclude broadcast stations from the license posting requirements. In addition, we seek input on whether there are any additional broadcast license posting or record maintenance requirements that should be modified or deleted. Parties urging the retention of any aspect of the posting or record maintenance requirements identified in this NPRM should explain how the benefits of such requirements exceed their costs. Likewise, parties advocating elimination of any requirements should discuss the costs of compliance as compared to any associated benefits of retaining them. To the extent possible, commenters should quantify any claimed costs or benefits and provide supporting information.

II. Procedural Matters

A. Initial Paperwork Reduction Act Analysis

12. This document contains proposed new or modified information collection requirements subject to the Paperwork Reduction Act of 1995, Public Law 104-13 (44 U.S.C. 3501-3520). It seeks comment on how the Commission could update its current forms to solicit the name and address of LPTV, translator and booster station records and their custodian in the absence of posting requirements. The Commission, as part of its continuing efforts to reduce paperwork burdens, invites the public and the Office of Management and Budget (OMB) to comment on the information collection requirements contained in this document, as required by the Paperwork Reduction Act of 1995. In addition, pursuant to the Small Business Paperwork Relief Act of 2002, we seek specific comment on how we might “further reduce the information collection burden for small business concerns with fewer than 25 employees.”

B. Initial Regulatory Flexibility Analysis

13. As required by the Regulatory Flexibility Act of 1980, as amended, (RFA) the Commission has prepared this Initial Regulatory Flexibility Act Analysis (IRFA) concerning the possible significant economic impact on small entities by the rules proposed in this Notice of Proposed Rulemaking (NPRM). Written public comments are requested on this IRFA. Comments must be identified as responses to the IRFA and must be filed by the deadlines for comments provided on the first page of the NPRM. Pursuant to the requirements established in 5 U.S.C. 603(a), The Commission will send a copy of the NPRM, including this IRFA, to the Chief Counsel for Advocacy of the Small Business Administration (SBA). In addition, the NPRM and IRFA (or summaries thereof) will be published in the Federal Register.

14. Need for, and Objectives of, the Report and Order. The proposed rule changes stem from a Public Notice issued by the Commission in May 2017 launching an initiative to modernize the Commission's media regulations. Numerous parties in that proceeding argued for the elimination of these rules on the basis that they are redundant and obsolete. The NPRM proposes to eliminate various provisions in Parts 0, 1, 5, 73, and 74 of the Commission's rules that require broadcasters to post and otherwise make available station licenses and related information.

15. Specifically, the NPRM proposes to eliminate: Section 73.1230, which requires broadcast stations to post their station license and other authorizations at “the principal control point of the transmitter” and prescribes the manner of such posting; Section 73.801, which applies Section 73.1230 to low power stations; Section 74.1265, which requires FM booster and translator stations to maintain their station license and other documents in their station record file and to physically display their call sign and other information at the antenna site; Sections 74.564 and 74.664, applicable to aural and television broadcast auxiliary stations, respectively, which require stations to post licenses and any other authorizations “in the room in which the transmitter is located” and prescribes the manner of such posting; Sections 74.432(j) and 74.832(j), which require remote pickup station and low power auxiliary station licensees to post licenses either at the transmitter or station control point; Section 5.203(b), which requires broadcast licensees to post experimental authorizations along with their station license; Section 1.62(a)(2), which requires all Commission licensees, including broadcast entities, to post information pertaining to license renewal applications as well as the license itself; and Section 74.765, which requires LPTV, TV translator, and TV booster stations to maintain their station license and other authorizations in their station record file and to physically display their call sign together with the name, address, and telephone number of the licensee or local representative of the licensee and the name and address of a person and place where station records are maintained at the antenna site. These proposals are intended to reduce outdated regulations and unnecessary regulatory burdens that can impede competition and innovation in media markets.

16. Legal Basis. The proposed action is authorized pursuant to Sections 1, 4(i), 4(j), 303, 309, 310, and 336 of the Communications Act of 1934, as amended, 47 U.S.C. 151, 154(i), 154(j), 303, 309, 310, and 336.

17. Description and Estimates of the Number of Small Entities To Which the Proposed Rules Will Apply. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act.¹¹ A small business concern is one which: (1) Is independently owned and operated; (2) is not dominant in its field of operation; and (3) satisfies any additional criteria established by the SBA.¹² The rules proposed herein will directly affect certain small television and radio broadcast stations, and cable entities. Below is a description of these small entities, as well as an estimate of the number of such small entities, where feasible.

¹¹ 5 U.S.C. 601(3) (incorporating by reference the definition of “small business concern” in 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.” 5 U.S.C. 601(3).

¹² 15 U.S.C. 632. Application of the statutory criteria of dominance in its field of operation and independence are sometimes difficult to apply in the context of broadcast television. Accordingly, the Commission's statistical account of television stations may be over-inclusive.

18. Television Broadcasting. This Economic Census category “comprises establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA has created the following small business size standard for such businesses: Those having $38.5 million or less in annual receipts. The 2012 Economic Census reports that 751 firms in this category operated in that year. Of that number, 656 had annual receipts of $25,000,000 or less. Based on this data, we estimate that the majority of commercial television broadcasters are small entities under the applicable SBA size standard.

19. In addition, the Commission has estimated the number of licensed commercial television stations to be 1,384. Of this total, 1,264 stations had revenues of $38.5 million or less, according to Commission staff review of the BIA Kelsey Inc. Media Access Pro Television Database (BIA) on February 24, 2017. Such entities, therefore, qualify as small entities under the SBA definition. The Commission has estimated the number of licensed noncommercial educational (NCE) television stations to be 394. The Commission, however, does not compile and does not have access to information on the revenue of NCE stations that would permit it to determine how many such stations would qualify as small entities.

20. We note, however, that in assessing whether a business concern qualifies as “small” under the above definition, business (control) affiliations ¹³ must be included. Our estimate, therefore likely overstates the number of small entities that might be affected by our action, because the revenue figure on which it is based does not include or aggregate revenues from affiliated companies. In addition, another element of the definition of “small business” requires that an entity not be dominant in its field of operation. We are unable at this time to define or quantify the criteria that would establish whether a specific television broadcast station is dominant in its field of operation. Accordingly, the estimate of small businesses to which the proposed rules would apply does not exclude any television station from the definition of a small business on this basis and therefore could be over-inclusive.

¹³ “[Business concerns] are affiliates of each other when one concern controls or has the power to control the other or a third party or parties controls or has the power to control both.” 13 CFR 21.103(a)(1).

21. There are also 417 Class A stations. Given the nature of this service, we will presume that all 417 of these stations qualify as small entities under the above SBA small business size standard.

22. Radio Stations. This economic Census category “comprises establishments primarily engaged in broadcasting aural programs by radio to the public.” The SBA has created the following small business size standard for this category: Those having $38.5 million or less in annual receipts. Census data for 2012 shows that 2,849 firms in this category operated in that year. Of this number, 2,806 firms had annual receipts of less than $25,000,000. Because the Census has no additional classifications that could serve as a basis for determining the number of stations whose receipts exceeded $38.5 million in that year, we conclude that the majority of television broadcast stations were small under the applicable SBA size standard.

23. Apart from the U.S. Census, the Commission has estimated the number of licensed commercial AM radio stations to be 4,486 stations and the number of commercial FM radio stations to be 6,755, for a total number of 11,241. Of this total, 9,898 stations had revenues of $38.5 million or less, according to Commission staff review of the BIA Kelsey Inc. Media Access Pro Television Database (BIA) in October 2014. In addition, the Commission has estimated the number of noncommercial educational FM radio stations to be 4,111. NCE stations are non-profit, and therefore considered to be small entities.¹⁴ Therefore, we estimate that the majority of radio broadcast stations are small entities.

¹⁴ 5 U.S.C. 601(4), (6).

24. Low Power FM Stations. The same SBA definition that applies to radio stations would apply to low power FM stations. As noted above, the SBA has created the following small business size standard for this category: Those having $38.5 million or less in annual receipts.¹⁵ The Commission has estimated the number of licensed low power FM stations to be 1,966.¹⁶ In addition, as of June 30, 2017, there were a total of 7,453 FM translator and FM booster stations.¹⁷ Given the nature of these services, we will presume that these licensees qualify as small entities under the SBA definition.

¹⁵ 13 CFR 121.201, NAICS Code 515112.

¹⁶ News Release, “Broadcast Station Totals as of June 30, 2017” (rel. July 11, 2017) (http://fjallfoss.fcc.gov/edocs_public/attachmatch/DOC-304594A1315231A1.pdf).

¹⁷ News Release, “Broadcast Station Totals as of June 30, 2017” (rel. July. 11, 2017).

25. We note again, however, that in assessing whether a business concern qualifies as “small” under the above definition, business (control) affiliations ¹⁸ must be included. Because we do not include or aggregate revenues from affiliated companies in determining whether an entity meets the applicable revenue threshold, our estimate of the number of small radio broadcast stations affected is likely overstated. In addition, as noted above, one element of the definition of “small business” is that an entity not be dominant in its field of operation. We are unable at this time to define or quantify the criteria that would establish whether a specific radio broadcast station is dominant in its field of operation. Accordingly, our estimate of small radio stations potentially affected by the proposed rules includes those that could be dominant in their field of operation. For this reason, such estimate likely is over-inclusive.

¹⁸ “[Business concerns] are affiliates of each other when one concern controls or has the power to control the other or a third party or parties controls or has the power to control both.”

26. Description of Projected Reporting, Recordkeeping, and Other Compliance Requirements. In this section, we identify the reporting, recordkeeping, and other compliance requirements proposed in the NPRM and consider whether small entities are affected disproportionately by any such requirements.

27. Reporting Requirements. The NPRM proposes to modify existing reporting requirements. Specifically, the NPRM seeks comment on how the Commission could update its current forms, such as revising the license renewal application form (Form 303-S), to solicit the name and address of LPTV, translator, and booster station records and their custodian in the absence of posting requirements. This modification would benefit small entities by removing burdensome posting obligation and allowing licensees to add required custodian on records information to an existing form which licensees routinely file with the Commission.

28. Recordkeeping Requirements. The NPRM does not propose to adopt recordkeeping requirements.

29. Other Compliance Requirements. The NPRM does not propose to adopt other compliance requirements.

30. Because no commenter provided information specifically quantifying the costs and administrative burdens of complying with the existing recordkeeping requirements, we cannot precisely estimate the impact on small entities of eliminating them. The proposed rule revisions, if adopted, will remove record keeping for all affected broadcast licensees, including small entities. Numerous parties in the Modernization of Media Regulation Initiative have requested the proposals set forth in the NPRM and no parties in that proceeding have opposed such proposals.

31. Steps Taken to Minimize Significant Economic Impact on Small Entities, and Significant Alternatives Considered. The RFA requires an agency to describe any significant, specifically small business, alternatives that it has considered in reaching its proposed approach, which may include the following four alternatives (among others): (1) The establishment of differing compliance or reporting requirements or timetables that take into account the resources available to small entities; (2) the clarification, consolidation, or simplification of compliance and reporting requirements under the rule for such small entities; (3) the use of performance, rather than design, standards; and (4) an exemption from coverage of the rule, or any part thereof, for small entities.¹⁹

¹⁹ 5 U.S.C. 603(c)(1) through (c)(4).

32. The NPRM proposes to eliminate recordkeeping obligations requiring the posting of stations' license and other authorizations. Eliminating these requirements is intended to modernize the Commission's regulations, remove duplicative and obsolete recordkeeping requirements and reduce costs and recordkeeping burdens for affected entities, including small entities. Under the current rules, affected entities must expend time and resources posting and maintaining licenses and related information already available to the Commission, and most of which is publicly accessible by electronic means. The proposed elimination would relieve such entities from these obsolete recordkeeping requirements. Thus, we anticipate that affected small entities only stand to benefit from such revisions, if adopted.

33. Federal Rules that May Duplicate, Overlap, or Conflict with the Proposed Rule. None.

C. Ex Parte Rules

34. Permit-But-Disclose. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

D. Filing Requirements

35. Comments and Replies. Pursuant to Sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the internet by accessing the ECFS: http://fjallfoss.fcc.gov/ecfs2/.

• Paper Filers: Parties who choose to file by paper must file an original and one copy of each filing. If more than one docket or rulemaking number appears in the caption of this proceeding, filers must submit two additional copies for each additional docket or rulemaking number.

• Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9050 Junction Drive, Annapolis Junction, MD 20701.

• U.S. Postal Service first-class, Express, and Priority mail must be addressed to 445 12th Street SW, Washington, DC 20554.

36. Availability of Documents. Comments, reply comments, and ex parte submissions will be available for public inspection during regular business hours in the FCC Reference Center, Federal Communications Commission, 445 12th Street SW, CY-A257, Washington, DC 20554. These documents will also be available via ECFS. Documents will be available electronically in ASCII, Microsoft Word, and/or Adobe Acrobat.

37. People with Disabilities. To request materials in accessible formats for people with disabilities (Braille, large print, electronic files, audio format), send an email to fcc504@fcc.gov or call the FCC's Consumer and Governmental Affairs Bureau at (202) 418-0530 (voice), (202) 418-0432 (TTY).

38. It is ordered that, pursuant to the authority found in sections 1, 4(i), 4(j), 303, 309, 310, and 336 of the Communications Act of 1934, as amended, 47 U.S.C. 151, 154(i), 154(j), 303, 309, 310, and 336, this Notice of Proposed Rulemaking is adopted.

39. It is further ordered that the Commission's Consumer and Governmental Affairs Bureau, Reference Information Center, shall send a copy of this Notice of Proposed Rulemaking, including the Initial Regulatory Flexibility Act Analysis, to the Chief Counsel for Advocacy of the Small Business Administration.

List of Subjects

47 CFR Part 0

Reporting and Recordkeeping Requirements.

47 CFR Part 1

Communications Common Carriers, Radio, Reporting and Recordkeeping Requirements, Television.

47 CFR Part 5

Radio, Reporting and Recordkeeping Requirements, Television.

47 CFR Part 73

Radio, Reporting and Recordkeeping Requirements, Television.

47 CFR Part 74

Radio, Reporting and Recordkeeping Requirements, Television.

Federal Communications Commission.
Marlene Dortch,
Secretary.

Proposed Rule Changes

The Federal Communications Commission proposes to amend Part 0, 1, 5, 73, and 74 of Title 47 of the Code of Federal Regulations (CFR) as set forth below:

PART 0—COMMISSION ORGANIZATION

1. The authority citation for Part 0 continues to read as follows:

Authority: Sec. 5, 48 Stat. 1068, as amended; 47 U.S.C. 155, 225, unless otherwise noted.

2. Amend § 0.408 paragraph (b) by revising the entry for 3060-0633 to read as follows:

§ 0.408 OMB control numbers and expiration dates assigned pursuant to the Paperwork Reduction Act of 1995.

* * * * *

(b) Display. * * *

3060-0633 | Secs. 74.165, 74.432, and 74.832 | 04/30/18

* * * * *

PART 1—PRACTICE AND PROCEDURE

3. The authority citation for Part 1 continues to read as follows:

Authority: 47 U.S.C. 151, 154(i), 155, 157, 160, 201, 225, 227, 303, 309, 332, 1403, 1404, 1451, 1452, and 1455, unless otherwise noted.

4. Amend § 1.62 by revising paragraph (a)(2) to read as follows:

§ 1.62 Operation pending action on renewal application.

(a) * * *

(2) A non-broadcast licensee operating by virtue of this paragraph shall, after the date of expiration specified in the license, post, in addition to the original license, any acknowledgment received from the Commission that the renewal application has been accepted for filing or a signed copy of the application for renewal of license which has been submitted by the licensee, or in services other than common carrier, a statement certifying that the licensee has mailed or filed a renewal application, specifying the date of mailing or filing.

* * * * *

PART 5—EXPERIMENTAL RADIO SERVICE

5. The authority citation for Part 5 continues to read as follows:

Authority: Secs. 4, 302, 303, 307, 336 48 Stat. 1066, 1082, as amended; 47 U.S.C. 154, 302, 303, 307, 336. Interpret or apply sec. 301, 48 Stat. 1081, as amended; 47 U.S.C. 301.

6. Amend § 5.203 by revising paragraph (b) to read as follows:

§ 5.203 Experimental authorizations for licensed broadcast stations.

* * * * *

(b) Experimental authorizations for licensed broadcast stations may be requested by filing an informal application with the FCC in Washington, DC, describing the nature and purpose of the experimentation to be conducted, the nature of the experimental signal to be transmitted, and the proposed schedule of hours and duration of the experimentation.

PART 73—RADIO BROADCAST SERVICES

7. The authority citation for Part 73 continues to read as follows:

Authority: 47 U.S.C. 154, 303, 309, 310, 334, 336, and 339.

8. Amend § 73.158 by revising paragraph (b) to read as follows:

§ 73.158 Directional antenna monitoring points.

* * * * *

(b) When the description of the monitoring point as shown on the station license is no longer correct due to road or building construction or other changes, the licensee must prepare and file with the FCC, in Washington, DC, a request for a corrected station license showing the new monitoring point description. The request shall include the information specified in paragraphs (a)(3) and (a)(4) of this section, and a copy of the station's current license.

§ 73.801 [Amended]

9. Amend § 73.801 by removing the reference for Section 73.1230.

§ 73.1230 [Removed]

10. Remove § 73.1230.

11. Amend § 73.1715 by revising paragraph (a) to read as follows:

§ 73.1715 Share Time.

* * * * *

(a) If the licenses of stations authorized to share time do not specify hours of operation, the licensees shall endeavor to reach an agreement for a definite schedule of periods of time to be used by each. Such agreement shall be in writing and each licensee shall file it in duplicate original with each application to the FCC in Washington, DC for renewal of license. If and when such written agreements are properly filed in conformity with this Section, the file mark of the FCC will be affixed thereto, one copy will be retained by the FCC, and one copy returned to the licensee. If the license specifies a proportionate time division, the agreement shall maintain this proportion. If no proportionate time division is specified in the license, the licensees shall agree upon a division of time. Such division of time shall not include simultaneous operation of the stations unless specifically authorized by the terms of the license

* * * * *

12. Amend § 73.1725 by revising paragraph (c) to read as follows:

§ 73.1725 Limited time.

* * * * *

(c) The licensee of a secondary station which is authorized to operate limited time and which may resume operation at the time the Class A station (or stations) on the same channel ceases operation shall, with each application for renewal of license, file in triplicate a copy of its regular operating schedule. It shall bear a signed notation by the licensee of the Class A station of its objection or lack of objection thereto. Upon approval of such operating schedule, the FCC will affix its file mark and return one copy to the licensee authorized to operate limited time. Departure from said operating schedule will be permitted only pursuant to § 73.1715 (Share time).

13. Amend § 73.1870 by revising paragraph (b)(3) to read as follows:

§ 73.1870 Chief operators.

* * * * *

(b) * * *

(3) The designation of the chief operator must be in writing. Agreements with chief operators serving on a contract basis must be in writing with a copy kept in the station files.

* * * * *

PART 74—EXPERIMENTAL RADIO, AUXILIARY, SPECIAL BROADCAST AND OTHER PROGRAM DISTRIBUTIONAL SERVICES

14. The authority citation for Part 74 continues to read as follows:

Authority: 47 U.S.C. 154, 302a, 303, 307, 309, 310, 336, and 554.

15. Amend § 74.432 by revising paragraph (j) to read as follows:

§ 74.432 Licensing requirements and procedures.

* * * * *

(j) The license shall be retained in the licensee's files at the address shown on the authorization.

* * * * *

§ 74.564 [Removed]

16. Remove § 74.564.

§ 74.664 [Removed]

17. Remove § 74.664.

§ 74.765 [Removed]

18. Remove § 74.765.

§ 74.733 [Amended]

19. Amend § 74.733 by removing paragraph (i) and redesignating paragraph (j) as new paragraph (i).

20. Amend § 74.781 by revising paragraph (c) to read as follows:

§ 74.781 Station Records.

* * * * *

(c) The station records shall be maintained for inspection at a residence, office, or public building, place of business, or other suitable place, in one of the communities of license of the translator or booster, except that the station records of a booster or translator licensed to the licensee of the primary station may be kept at the same place where the primary station records are kept. The station records shall be made available upon request to any authorized representative of the Commission.

* * * * *

21. Amend § 74.787 by removing paragraph (a)(3)(viii) to read as follows:

§ 74.787 Digital licensing.

(a) * * *

(3) * * *

(viii) The following sections are applicable to analog-to-digital and digital-to-digital replacement television translator stations:

* * * * *

22. Amend § 74.832 by revising paragraph (j) to read as follows:

§ 74.832 Licensing requirements and procedures.

* * * * *

(j) The license shall be retained in the licensee's files at the address shown on the authorization.

§ 74.1265 [Removed]

23. Remove § 74.1265.

24. Amend § 74.1281 by revising paragraph (c) to read as follows:

§ 74.1281 Station Records.

* * * * *

(c) The station records shall be maintained for inspection at a residence, office, or public building, place of business, or other suitable place, in one of the communities of license of the translator or booster, except that the station records of a booster or translator licensed to the licensee of the primary station may be kept at the same place where the primary station records are kept. The station records shall be made available upon request to any authorized representative of the Commission.

* * * * *

[FR Doc. 2018-13282 Filed 6-29-18; 8:45 am]

BILLING CODE 6712-01-P